DEPARTMENT OF TRANSPORTATION

Federal Railroad Administration

49 CFR Parts 209, 217, 219, 223, 224, 225, 227, 230, 238, 239, 240, 241, 242, 243, 244, 245, and 246

[Docket No. FRA-2025-0115]

RIN 2130-AD56

Updating the Definition of Person

AGENCY: Federal Railroad Administration (FRA), Department of Transportation (DOT).

ACTION: Final rule.

SUMMARY: This final rule updates the definition of “person” in FRA's regulations to provide for regulatory consistency. FRA is making these clarifying changes to better align with FRA's safety jurisdiction and to conform definitions in FRA's older regulations with the definition of “person” that FRA has used in its most recent rulemakings. In one section where “person” is defined, FRA is also replacing references to specific penalty amounts with general references to FRA's minimum civil monetary penalty, ordinary maximum civil monetary penalty, and aggravated maximum civil monetary penalty amounts, consistent with FRA's current practice.

DATES: This rule is effective July 31, 2025.

FOR FURTHER INFORMATION CONTACT: Elliott Gillooly, Attorney Adviser, Office of the Chief Counsel, Federal Railroad Administration, at telephone: (202) 897-8666 or email: elliott.gillooly@dot.gov.

SUPPLEMENTARY INFORMATION:

I. Background

Consistent with the deregulatory agenda of President Donald J. Trump and Secretary of Transportation Sean P. Duffy, which seeks to unleash America's economic prosperity without compromising transportation safety, FRA is reviewing its regulatory requirements in parts 200 through 299 of title 49, Code of Federal Regulations (CFR) and repealing or updating requirements that are outdated or redundant. This final rule updates the definition of “person” in FRA's regulations to provide for regulatory consistency. Recent additions to the CFR, including 49 CFR 270.5, have defined “person” with reference to 49 U.S.C. 21301, which establishes FRA's general civil penalty authority. Accordingly, FRA is now amending the definition of “person” to remove references to “1 U.S.C. 1,” and replace it with “49 U.S.C. 21301.” This change will better align the definitions with FRA's general safety jurisdiction. The section-by-section analysis below describes all sections that FRA is amending in this final rule.

II. Final Rule

Under the Administrative Procedure Act, an agency may waive notice and comment procedures when the agency for good cause finds that notice and public procedure are impracticable, unnecessary, or contrary to the public interest. 5 U.S.C. 553(b)(B). Since this final rule merely makes administrative updates to the CFR to provide a consistent statutory reference in the definition of “person,” and is replacing references to specific civil penalty amounts with a general reference to 49 CFR part 209, appendix A, notice and comment are not necessary.

II. Section-by-Section Analysis

Part 209—Railroad Safety Enforcement Procedures

Section 209.3 Definitions

FRA is removing reference to 1 U.S.C. 1 in the first sentence of the definition of “person” and replacing it with 49 U.S.C. 21301.

Part 217—Railroad Operating Rules

Section 217.5 Penalty

FRA is removing reference to 1 U.S.C. 1 in the first sentence of this section, in the parenthetical that defines “person,” and replacing it with 49 U.S.C. 21301. FRA is also replacing references to specific penalty amounts with general references to the minimum civil monetary penalty, ordinary maximum civil monetary penalty, and aggravated maximum civil monetary penalty. FRA is adding language to this section referring readers to 49 CFR part 209, appendix A, where FRA will continue to specify statutorily provided civil penalty amounts updated for inflation. FRA is also amending this section to update the web address from www.fra.dot.gov to https://railroads.dot.gov/.

Part 219—Control of Alcohol and Drug Use

Section 219.5 Definitions

FRA is removing reference to 1 U.S.C. 1 in the first sentence of the definition of “person” and replacing it with 49 U.S.C. 21301.

Part 223—Safety Glazing Standards—Locomotives, Passenger Cars and Cabooses

Section 223.5 Definitions

FRA is removing reference to 1 U.S.C. 1 in the first sentence of the definition of “person” and replacing it with 49 U.S.C. 21301.

Part 224—Reflectorization of Rail Freight Rolling Stock

Section 224.5 Definitions

FRA is removing reference to 1 U.S.C. 1 in the first sentence of the definition of “person” and replacing it with 49 U.S.C. 21301.

Part 225—Railroad Accidents/Incidents: Reports Classification and Investigations

Section 225.5 Definitions

FRA is removing reference to 1 U.S.C. 1 in the first sentence of the definition of “person” and replacing it with 49 U.S.C. 21301.

Part 227—Occupational Safety and Health in the Locomotive Cab

Section 227.5 Definitions

FRA is removing reference to 1 U.S.C. 1 in the first sentence of the definition of “person” and replacing it with 49 U.S.C. 21301.

Part 230—Steam Locomotive Inspection and Maintenance Standards

Section 230.8 Definitions

FRA is removing reference to 1 U.S.C. 1 in the first sentence of the definition of “person” and replacing it with 49 U.S.C. 21301.

Part 238—Passenger Equipment Safety Standards

Section 238.5 Definitions

FRA is removing reference to 1 U.S.C. 1 in the first sentence of the definition of “person” and replacing it with 49 U.S.C. 21301.

Part 239—Passenger Train Emergency Preparedness

Section 239.7 Definitions

FRA is removing reference to 1 U.S.C. 1 in the first sentence of the definition of “person” and replacing it with 49 U.S.C. 21301.

Part 240—Qualification and Certification of Locomotive Engineers

Section 240.7 Definitions

FRA is removing reference to 1 U.S.C. 1 in the first sentence of the definition of “person” and replacing it with 49 U.S.C. 21301.

Part 241—United States Locational Requirement for Dispatching of United States Rail Operations

Section 241.5 Definitions

FRA is removing reference to 1 U.S.C. 1 in the first sentence of the definition of “person” and replacing it with 49 U.S.C. 21301.

Part 242—Qualification and Certification of Conductors

Section 242.7 Definitions

FRA is removing reference to 1 U.S.C. 1 in the first sentence of the definition of “person” and replacing it with 49 U.S.C. 21301.

Part 243—Training, Qualification, and Oversight for Safety-Related Railroad Employees

Section 243.5 Definitions

FRA is removing reference to 1 U.S.C. 1 in the first sentence of the definition of “person” and replacing it with 49 U.S.C. 21301.

Part 244—Regulations on Safety Integration Plans Governing Railroad Consolidations, Mergers, and Acquisitions of Control

Section 244.9 Definitions

FRA is removing reference to 1 U.S.C. 1 in the first sentence of the definition of “person” and replacing it with 49 U.S.C. 21301.

Part 245—Qualification and Certification of Dispatchers

Section 245.7 Definitions

FRA is removing reference to 1 U.S.C. 1 in the first sentence of the definition of “person” and replacing it with 49 U.S.C. 21301.

Part 246—Certification of Signal Employees

Section 246.7 Definitions

FRA is removing reference to 1 U.S.C. 1 in the first sentence of the definition of “person” and replacing it with 49 U.S.C. 21301.

III. Regulatory Impact and Notices

A. Executive Order (E.O.) 12866 (Regulatory Planning and Review) and DOT Regulatory Policies and Procedures

FRA has evaluated this final rule in accordance with E.O. 12866, Regulatory Planning and Review (58 FR 51735, Oct. 4, 1993), and DOT Order 2100.6B, Policies and Procedures for Rulemaking (Mar. 10, 2025). The Office of Information and Regulatory Affairs within the Office of Management and Budget (OMB) determined that this final rule is not a significant regulatory action under section 3(f) of E.O. 12866.

This final rule makes administrative changes such as updating statutory references in the CFR, and replacing references to specific penalty amounts with general references to the minimum civil monetary penalty, ordinary maximum civil monetary penalty, and aggravated maximum civil monetary penalty, this final rule imparts no additional burdens on regulated entities. Moreover, this rule will provide some qualitative benefits to regulated entities and the U.S. Government, by updating the language of various parts of FRA's regulations to provide regulatory consistency and to direct regulated entities to the appropriate civil monetary penalty amounts.

B. E.O. 14192 (Unleashing Prosperity Through Deregulation)

E.O. 14192, Unleashing Prosperity Through Deregulation (90 FR 9065, Jan. 31, 2025), requires that for “each new [E.O. 14192 regulatory action] issued, at least ten prior regulations be identified for elimination.” ¹ Implementation guidance for E.O. 14192 issued by OMB (Memorandum M-25-20, Mar. 26, 2025) defines two different types of E.O. 14192 actions: an E.O. 14192 deregulatory action, and an E.O. 14192 regulatory action.²

¹ Executive Office of the President. Executive Order 14192 of January 31, 2025. Unleashing Prosperity Through Deregulation. 90 FR 9065-9067 (Feb. 6, 2025).

² Executive Office of the President. Office of Management and Budget. Guidance Implementing Section 3 of Executive Order 14192, Titled “Unleashing Prosperity Through Deregulation.” Memorandum M-25-20. Mar. 26, 2025.

An E.O. 14192 deregulatory action is defined as “an action that has been finalized and has total costs less than zero.” This final rule is expected to have total costs less than zero, and therefore it would be considered an E.O. 14192 deregulatory action.

C. Regulatory Flexibility Act and E.O. 13272

The Regulatory Flexibility Act of 1980 ((RFA), 5 U.S.C. 601 et seq.) and E.O. 13272 (67 FR 53461, Aug. 16, 2002) require an agency to prepare and make available to the public a regulatory flexibility analysis that describes the effect of the rule on small entities (i.e., small businesses, small organizations, and small governmental jurisdictions). A regulatory flexibility analysis is not required when a rule is exempt from notice and comment rulemaking. FRA has determined that this rule is exempt from notice and comment rulemaking. Therefore, a regulatory flexibility analysis is not required for this rule.

D. Paperwork Reduction Act

This final rule contains no new information collection requirements in accordance with the Paperwork Reduction Act of 1995 (44 U.S.C. 3501 et seq.). Therefore, no information collection submission to OMB or approval is required.

E. Environmental Assessment

FRA has analyzed this rule for the purposes of the National Environmental Policy Act of 1969 (NEPA). In accordance with 42 U.S.C. 4336 and DOT NEPA Order 5610.1C, FRA has determined that this rule is categorically excluded pursuant to 23 CFR 771.118(c)(4), “[p]lanning and administrative activities that do not involve or lead directly to construction, such as: [p]romulgation of rules, regulations, and directives.” This rulemaking is not anticipated to result in any environmental impacts, and there are no unusual or extraordinary circumstances present in connection with this rulemaking.

F. Federalism Implications

This final rule will not have a substantial effect on the States, on the relationship between the national government and the States, or on the distribution of power and responsibilities among the various levels of government. Thus, in accordance with E.O. 13132, Federalism (64 FR 43255, Aug. 10, 1999), preparation of a Federalism Assessment is not warranted.

G. Unfunded Mandates Reform Act of 1995

This final rule would not result in the expenditure, in the aggregate, of $100,000,000 or more, adjusted for inflation, in any one year by State, local, or Indian Tribal governments, or the private sector. Thus, consistent with section 202 of the Unfunded Mandates Reform Act of 1995 (Pub. L. 104-4, 2 U.S.C. 1532), FRA is not required to prepare a written statement detailing the effect of such an expenditure.

H. Energy Impact

E.O. 13211, Actions Concerning Regulations that Significantly Affect Energy Supply, Distribution, or Use 66 FR 28355 (May 22, 2001), requires Federal agencies to prepare a Statement of Energy Effects for any “significant energy action.” FRA has evaluated this rule in accordance with E.O. 13211 and determined that this rule is not a “significant energy action” within the meaning of E.O. 13211.

I. E.O. 13175 (Tribal Consultation)

FRA has evaluated this rule in accordance with the principles and criteria contained in E.O. 13175, Consultation and Coordination with Indian Tribal Governments (Nov. 6, 2000). The rule would not have a substantial direct effect on one or more Indian tribes, would not impose substantial direct compliance costs on Indian tribal governments, and would not preempt tribal laws. Therefore, the funding and consultation requirements of E.O. 13175 do not apply, and a tribal summary impact statement is not required.

J. International Trade Impact Assessment

The Trade Agreement Act of 1979 ³ prohibits Federal agencies from engaging in any standards or related activities that create unnecessary obstacles to the foreign commerce of the United States. Legitimate domestic objectives, such as safety, are not considered unnecessary obstacles. The statute also requires consideration of international standards and, where appropriate, that they be the basis for U.S. standards. This rulemaking is purely domestic in nature and is not expected to affect trade opportunities for U.S. firms doing business overseas or for foreign firms doing business in the U.S.

³ 19 U.S.C. ch. 13.

List of Subjects

49 CFR Part 209

Administrative practice and procedure, Hazardous materials transportation, Penalties, Railroad safety, Reporting and recordkeeping requirements.

49 CFR Parts 217, 224, 230, 239

Penalties, Railroad safety, and Reporting and recordkeeping requirements.

49 CFR Part 219

Alcohol abuse, Drug abuse, Drug testing, Penalties, Railroad safety, Reporting and recordkeeping requirements, Safety, Transportation.

49 CFR Parts 240, 242, 243, and 244

Administrative practice and procedure, Penalties, Railroad safety, Reporting and recordkeeping requirements.

49 CFR Part 223

Glazing standards, Penalties, Railroad safety, Reporting and recordkeeping requirements.

49 CFR Part 225

Investigations, Penalties, Railroad safety, Reporting and recordkeeping requirements.

49 CFR Part 227

Noise control, Occupational safety and health, Penalties, Railroad safety, Reporting and recordkeeping requirements.

49 CFR Part 238

Fire prevention, Passenger equipment, Penalties, Railroad safety, Reporting and recordkeeping requirements.

49 CFR Part 241

Communications, Penalties, Railroad safety, Reporting and recordkeeping requirements.

49 CFR Part 245

Administrative practice and procedure, Dispatcher, Penalties, Railroad employees, Railroad operating procedures, Railroad safety, Reporting and recordkeeping requirements.

49 CFR Part 246

Administrative practice and procedure, Signal employee, Penalties, Railroad employees, Railroad safety, Reporting and recordkeeping requirements.

The Final Rule

For the reasons discussed in the preamble, FRA amends parts 209, 217, 219, 223, 224, 225, 227, 230, 238, 239, 240, 241, 242, 243, 244, 245, and 246 of chapter II, subtitle B of title 49, Code of Federal Regulations as follows:

PART 209—RAILROAD SAFETY ENFORCEMENT PROCEDURES

1. The authority citation for part 209 continues to read as follows:

Authority: 49 U.S.C. 5123, 5124, 20103, 20107, 20111, 20112, 20114; 28 U.S.C. 2461 note; and 49 CFR 1.89.

2. In § 209.3, revise the definition of “Person” to read as follows:

§ 209.3 Definitions.

* * * * *

Person generally includes all categories of entities covered under 49 U.S.C. 21301, including but not limited to the following: a railroad; any manager, supervisor, official, or other employee or agent of a railroad; any owner, manufacturer, lessor, or lessee of railroad equipment, track, or facilities; any independent contractor providing goods or services to a railroad; and any employee of such owner, manufacturer, lessor, lessee, or independent contractor; however, person, when used to describe an entity that FRA alleges to have committed a violation of the provisions of law formerly contained in the Hazardous Materials Transportation Act or contained in the Hazardous Materials Regulations, has the same meaning as in 49 U.S.C. 5102(9) (formerly codified at 49 App. U.S.C. 1802(11)), i.e., an individual, firm, copartnership, corporation, company, association, joint-stock association, including any trustee, receiver, assignee, or similar representative thereof, or government, Indian tribe, or authority of a government or tribe when offering hazardous material for transportation in commerce or transporting hazardous material to further a commercial enterprise, but such term does not include the United States Postal Service or, for the purposes of 49 U.S.C. 5123-5124 (formerly contained in sections 110 and 111 of the Hazardous Materials Transportation Act and formerly codified at 49 App. U.S.C. 1809-1810), a department, agency, or instrumentality of the Federal Government.

* * * * *

PART 217—RAILROAD OPERATING RULES

3. The authority citation for part 217 continues to read as follows:

Authority: 49 U.S.C. 20103, 20107, 20168, 28 U.S.C. 2461, note; and 49 CFR 1.89.

4. Revise § 217.5 to read as follows:

§ 217.5 Penalty.

(a) Any person (an entity of any type covered under 49 U.S.C. 21301, including but not limited to the following: a railroad; a manager, supervisor, official, or other employee or agent of a railroad; any owner, manufacturer, lessor, or lessee of railroad equipment, track, or facilities; any independent contractor providing goods or services to a railroad; and any employee of such owner, manufacturer, lessor, lessee, or independent contractor) who violates any requirement of this part or causes the violation of any such requirement is subject to a civil penalty of at least the minimum civil monetary penalty and not more than the ordinary maximum civil monetary penalty per violation, except that: Penalties may be assessed against individuals only for willful violations, and, a penalty not to exceed the aggravated maximum civil monetary penalty per violation may be assessed, where:

(1) A grossly negligent violation, or a pattern of repeated violations, has created an imminent hazard of death or injury to persons; or

(2) A death or injury has occurred. See 49 CFR part 209, appendix A.

(b) Each day a violation continues shall constitute a separate offense. See FRA's website at https://railroads.dot.gov/ for a statement of agency civil penalty policy.

PART 219—CONTROL OF ALCOHOL AND DRUG USE

5. The authority citation for part 219 continues to read as follows:

Authority: 49 U.S.C. 20103, 20107, 20140, 21301, 21304, 21311; 28 U.S.C. 2461 note; Div. A, Sec. 412, Pub. L. 110-432, 122 Stat. 4889 (49 U.S.C. 20140 note); Sec. 8102, Pub. L. 115-271, 132 Stat. 3894; and 49 CFR 1.89.

6. In § 219.5, revise the definition of “Person” to read as follows:

§ 219.5 Definitions.

* * * * *

Person means an entity of any type covered under 49 U.S.C. 21301, including but not limited to the following: A railroad; a manager, supervisor, official, or other employee or agent of a railroad; any owner, manufacturer, lessor, or lessee of railroad equipment, track, or facilities; any independent contractor providing goods or services to a railroad, such as a service agent performing functions under part 40 of this title; and any employee of such owner, manufacturer, lessor, lessee, or independent contractor.

* * * * *

PART 223—SAFETY GLAZING STANDARDS—LOCOMOTIVES, PASSENGER CARS AND CABOOSES

7. The authority citation for part 223 continues to read as follows:

Authority: 49 U.S.C. 20102-20103, 20133, 20701-20702, 21301-21302, 21304; 28 U.S.C. 2461 note; and 49 CFR 1.89.

8. In § 223.5, revise the definition of “Person” to read as follows:

§ 223.5 Definitions.

* * * * *

Person includes all categories of entities covered under 49 U.S.C. 21301, including, but not limited to, a railroad; any manager, supervisor, official, or other employee or agent of a railroad; any owner, manufacturer, lessor, or lessee of railroad equipment, track, or facilities; any passenger, any trespasser or nontrespasser; any independent contractor providing goods or services to a railroad; and any employee of such owner, manufacturer, lessor, lessee, or independent contractor.

* * * * *

PART 224—REFLECTORIZATION OF RAIL FREIGHT ROLLING STOCK

9. The authority citation for part 224 continues to read as follows:

Authority: 49 U.S.C. 20103, 20107, 20148 and 21301; 28 U.S.C. 2461 note; and 49 CFR 1.89.

10. In § 224.5, revise the definition of “Person” to read as follows:

§ 224.5 Definitions.

* * * * *

Person means an entity of any type covered under 49 U.S.C. 21301, including but not limited to the following: A railroad; a manager, supervisor, official, or other employee or agent of a railroad; any owner, manufacturer, lessor, or lessee of railroad equipment, track or facilities; any independent contractor providing goods or services to a railroad; and any employee of such an owner, manufacturer, lessor, lessee, or independent contractor.

* * * * *

PART 225—RAILROAD ACCIDENTS/INCIDENTS: REPORTS CLASSIFICATION, AND INVESTIGATIONS

11. The authority citation for part 225 continues to read as follows:

Authority: 49 U.S.C. 103, 322(a), 20103, 20107, 20901-20902, 21301, 21302, 21311; 28 U.S.C. 2461 note; and 49 CFR 1.89.

12. In § 225.5, revise the definition of “Person” to read as follows:

§ 225.5 Definitions.

* * * * *

Person includes all categories of entities covered under 49 U.S.C. 21301, including, but not limited to, a railroad; any manager, supervisor, official, or other employee or agent of a railroad; any owner, manufacturer, lessor, or lessee of railroad equipment, track, or facilities; any passenger; any trespasser or nontrespasser; any independent contractor providing goods or services to a railroad; any volunteer providing goods or services to a railroad; and any employee of such owner, manufacturer, lessor, lessee, or independent contractor.

* * * * *

PART 227—OCCUPATIONAL SAFETY AND HEALTH IN THE LOCOMOTIVE CAB

13. The authority citation for part 227 continues to read as follows:

Authority: 49 U.S.C. 20103, 20103 note, 20166, 20701-20703, 21301, 21302, 21304; 28 U.S.C. 2461 note; and 49 CFR 1.89.

14. In § 227.5, revise the definition of “Person” to read as follows:

§ 227.5 Definitions.

* * * * *

Person means an entity of any type covered under 49 U.S.C. 21301, including but not limited to the following: a railroad; a manager, supervisor, official, or other employee or agent of a railroad; an owner, manufacturer, lessor, or lessee of railroad equipment, track, or facilities; an independent contractor providing goods or services to a railroad; and any employee of such owner, manufacturer, lessor, lessee, or independent contractor.

* * * * *

PART 230—STEAM LOCOMOTIVE INSPECTION AND MAINTENANCE STANDARDS

15. The authority citation for part 230 continues to read as follows:

Authority: 49 U.S.C. 20103, 20107, 20702; 28 U.S.C. 2461 note; and 49 CFR 1.89.

16. In § 230.8, revise the definition of “Person” to read as follows:

§ 230.8 Definitions.

* * * * *

Person. An entity of any type covered under 49 U.S.C. 21301, including but not limited to the following: a railroad; a manager, supervisor, official, or other employee or agent of a railroad; any owner, manufacturer, lessor, or lessee of railroad equipment, track, or facilities; any independent contractor providing goods or services to a railroad; and any employee of such owner, manufacturer, lessor, lessee, or independent contractor.

* * * * *

PART 238—PASSENGER EQUIPMENT SAFETY STANDARDS

17. The authority citation for part 238 continues to read as follows:

Authority: 49 U.S.C. 20103, 20107, 20133, 20141, 20302-20303, 20306, 20701-20702, 21301-21302, 21304; 28 U.S.C. 2461 note; and 49 CFR 1.89.

18. In § 238.5, revise the definition of “Person” to read as follows:

§ 238.5 Definitions.

* * * * *

Person means an entity of any type covered under 49 U.S.C. 21301, including but not limited to the following: a railroad; a manager, supervisor, official, or other employee or agent of a railroad; any owner, manufacturer, lessor, or lessee of railroad equipment, track, or facilities; any independent contractor providing goods or services to a railroad; and any employee of such owner, manufacturer, lessor, lessee, or independent contractor.

* * * * *

PART 239—PASSENGER TRAIN EMERGENCY PREPAREDNESS

19. The authority citation for part 239 continues to read as follows:

Authority: 49 U.S.C. 20102-20103, 20105-20114, 20133, 21301, 21304, and 21311; 28 U.S.C. 2461 note; and 49 CFR 1.89.

20. In § 239.7, revise the definition of “Person” to read as follows:

§ 239.7 Definitions.

* * * * *

Person includes all categories of entities covered under 49 U.S.C. 21301, including, but not limited to, a railroad; any manager, supervisor, official, or other employee or agent of a railroad; any owner, manufacturer, lessor, or lessee of railroad equipment, track, or facilities; any passenger; any trespasser or nontrespasser; any independent contractor providing goods or services to a railroad; any volunteer providing goods or services to a railroad; and any employee of such owner, manufacturer, lessor, lessee, or independent contractor.

* * * * *

PART 240—QUALIFICATION AND CERTIFICATION OF LOCOMOTIVE ENGINEERS

21. The authority citation for part 240 continues to read as follows:

Authority: 49 U.S.C. 20103, 20107, 20135, 21301, 21304, 21311; 28 U.S.C. 2461 note; and 49 CFR 1.89.

22. In § 240.7, revise the definition of “Person” to read as follows:

§ 240.7 Definitions.

* * * * *

Person means an entity of any type covered under 49 U.S.C. 21301, including but not limited to the following: a railroad; a manager, supervisor, official, or other employee or agent of a railroad; any owner, manufacturer, lessor, or lessee of railroad equipment, track, or facilities; any independent contractor providing goods or services to a railroad; and any employee of such owner, manufacturer, lessor, lessee, or independent contractor.

* * * * *

PART 241—UNITED STATES LOCATIONAL REQUIREMENT FOR DISPATCHING OF UNITED STATES RAIL OPERATIONS

23. The authority citation for part 241 continues to read as follows:

Authority: 49 U.S.C. 20103, 20107, 21301, 21304, 21311; 28 U.S.C. 2461 note; 49 CFR 1.89.

24. In § 241.5, revise the definition of “Person” to read as follows:

§ 241.5 Definitions.

* * * * *

Person means an entity of a type covered under 49 U.S.C. 21301, including but not limited to the following: a railroad; a manager, supervisor, official, or other employee or agent of a railroad; an owner, manufacturer, lessor, or lessee of railroad equipment, track, or facilities; an independent contractor providing goods or services to a railroad; and an employee of such owner, manufacturer, lessor, lessee, or independent contractor.

* * * * *

PART 242—QUALIFICATION AND CERTIFICATION OF CONDUCTORS

25. The authority citation for part 242 continues to read as follows:

Authority: 49 U.S.C. 20103, 20107, 20135, 20138, 20162, 20163, 21301, 21304, 21311; 28 U.S.C. 2461 note; and 49 CFR 1.89.

26. In § 242.7, revise the definition of “Person” to read as follows:

§ 242.7 Definitions.

* * * * *

Person means an entity of any type covered under 49 U.S.C. 21301, including but not limited to the following: A railroad; a manager, supervisor, official, or other employee or agent of a railroad; any owner, manufacturer, lessor, or lessee of railroad equipment, track, or facilities; any independent contractor providing goods or services to a railroad; and any employee of such owner, manufacturer, lessor, lessee, or independent contractor.

* * * * *

PART 243—TRAINING, QUALIFICATION, AND OVERSIGHT FOR SAFETY-RELATED RAILROAD EMPLOYEES

27. The authority citation for part 243 continues to read as follows:

Authority: 49 U.S.C. 20103, 20107, 20131-20155, 20162, 20301-20306, 20701-20702, 21301-21304, 21311; 28 U.S.C. 2461 note; and 49 CFR 1.89.

28. In § 243.5, revise the definition of “Person” to read as follows:

§ 243.5 Definitions.

* * * * *

Person means an entity of any type covered under 49 U.S.C. 21301, including, but not limited to, the following: A railroad; a manager, supervisor, official, or other employee or agent of a railroad; any owner, manufacturer, lessor, or lessee of railroad equipment, track, or facilities; any independent contractor providing goods or services to a railroad; and any employee of such owner, manufacturer, lessor, lessee, or independent contractor.

* * * * *

PART 244—REGULATIONS ON SAFETY INTEGRATION PLANS GOVERNING RAILROAD CONSOLIDATIONS, MERGERS, AND ACQUISITIONS OF CONTROL

29. The authority citation for part 244 continues to read as follows:

Authority: 49 U.S.C. 20103, 20107, 21301; 5 U.S.C. 553 and 559; 28 U.S.C. 2461 note; and 49 CFR 1.89.

30. In § 244.9, revise the definition of “Person” to read as follows:

§ 244.9 Definitions.

* * * * *

Person means an entity of any type covered under 49 U.S.C. 21301, including the following: A railroad; a manager, supervisor, official, or other employee or agent of a railroad; any owner, manufacturer, lessor, or lessee of railroad equipment, track, or facilities; any independent contractor providing goods or services to a railroad; and any employee of such owner, manufacturer, lessor, lessee, or independent contractor.

* * * * *

PART 245—QUALIFICATION AND CERTIFICATION OF DISPATCHERS

31. The authority citation for part 245 continues to read as follows:

Authority: 49 U.S.C. 20103, 20107, 20162, 21301, 21304, 21311; 28 U.S.C. 2461 note; 49 CFR 1.89; and Pub. L. 110-432, sec. 402, 122 Stat. 4884.

32. In § 245.7, revise the definition of “Person” to read as follows:

§ 245.7 Definitions.

* * * * *

Person means an entity of any type covered under 49 U.S.C. 21301, including but not limited to the following: a railroad; a manager, supervisor, official, or other employee or agent of a railroad; any owner, manufacturer, lessor, or lessee of railroad equipment, track, or facilities; any independent contractor providing goods or services to a railroad; and any employee of such owner, manufacturer, lessor, lessee, or independent contractor.

* * * * *

PART 246—CERTIFICATION OF SIGNAL EMPLOYEES

33. The authority citation for part 246 continues to read as follows:

Authority: 49 U.S.C. 20103, 20107, 20162, 21301, 21304, 21311; 28 U.S.C. 2461 note; 49 CFR 1.89; and Pub. L. 110-432, sec. 402, 122 Stat. 4884.

34. In § 246.7, revise the definition of “Person” to read as follows:

§ 246.7 Definitions.

* * * * *

Person means an entity of any type covered under 49 U.S.C. 21301, including but not limited to the following: a railroad; a manager, supervisor, official, or other employee or agent of a railroad; any owner, manufacturer, lessor, or lessee of railroad equipment, track, or facilities; any independent contractor or subcontractor providing goods or services to a railroad; and any employee of such owner, manufacturer, lessor, lessee, or independent contractor or subcontractor.

* * * * *

Issued in Washington, DC.
Kyle D. Fields,
Chief Counsel.

[FR Doc. 2025-12190 Filed 6-27-25; 4:15 pm]

BILLING CODE 4910-06-P